UNIFIED CARRIER REGISTRATION PLAN

Sunshine Act Meeting Notice; Unified Carrier Registration Plan Board Subcommittee Meeting

TIME AND DATE: December 3, 2020, from Noon to 2 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 965 1818 4622, to listen and participate in this meeting. The website to participate via Zoom Meeting and Screenshare is https://kellen.zoom.us/j/96518184622.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Subcommittee Chair

For Discussion and Possible Subcommittee Action

The Subcommittee Agenda will be reviewed, and the Subcommittee will consider adoption.

Ground Rules

Subcommittee action only to be taken in designated areas on agenda

IV. Review and Approval of Minutes From the October 14, 2020 Meeting—Subcommittee Chair

For Discussion and Possible Subcommittee Action

Draft minutes from the October 14, 2020 Subcommittee meeting via teleconference will be reviewed. The Subcommittee will consider action to approve.

V. Independent Auditor's Final Report (2017 and 2018)—UCR Depository Manager

The UCR Depository Manager will discuss the outcome of the financial statement audits for each of the 12-month periods ended December 31, 2018 and 2017 for the Depository.

VI. NRS Testing—Penetration and Vulnerability Testing—UCR Technology Manager and UCR Depository Manager

The UCR Technology Director and UCR Depository Manager will recommend plans to conduct a protocol of tests of the National Registration System (NRS) to include an appropriate audit and penetration and vulnerability testing of the NRS.

VII. Consideration of the Addition of a UCR Auditor/Enforcement Manager—Subcommittee Chair and UCR Depository Manager

For Discussion and Possible Subcommittee Action

The Subcommittee Chair will lead a discussion considering the potential addition of a UCR Auditor/Enforcement Manager. The Subcommittee may take action to recommend to the UCR Board that a UCR Auditor/Enforcement Manager be included in the budget for fiscal year 2021

VIII. Guidance Regarding Steps to be Taken on Foreign Based Motor Carriers' FARs—UCR Subcommittee Chair

For Discussion and Possible Subcommittee Action

The Subcommittee Chair will discuss the unique issues regarding Focused Anomaly Reviews (FARs) associated with Non-United States based motor carriers and motor carriers based in non-participating states. The Subcommittee may take action to recommend to the Board FARs audit procedures to be utilized by participating states for these motor carriers.

IX. Next Steps Regarding the 2019 Audit Deficiencies by Idaho and Utah—Subcommittee Chair

For Discussion and Possible Subcommittee Action

The Subcommittee Chair will discuss the next steps regarding the 2019 Audit Deficiencies by Idaho and Utah with the Subcommittee. The Subcommittee may take action to recommend to the Board that additional steps be taken against these two states.

X. Consideration and Possible Approval of a Recommendation to the Board to Approve an Audit Contract of the NRS by RSM—UCR Executive Director

For Discussion and Possible Subcommittee Action

The UCR Executive Director will lead a discussion around the consideration and possible approval of a recommendation to the Board to approve an audit contract, that includes penetration and vulnerability testing, of the NRS by RSM.

XI. Other Items—Subcommittee Chair

The Subcommittee Chair will call for any other items the committee members would like to discuss.

XII. Adjournment—Subcommittee Chair

The Subcommittee Chair will adjourn the meeting.

The agenda will be available no later than 5:00 p.m. Eastern time, November 24, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-26465 Filed 11-25-20; 11:15 am]

BILLING CODE 4910-YL-P